SMALL BUSINESS ADMINISTRATION

[Disaster Declaration # 17731 and # 17732; Florida Disaster Number FL-00183]

Presidential Declaration of a Major Disaster for Public Assistance Only for the State of Florida

AGENCY: U.S. Small Business Administration.

ACTION: Notice.

SUMMARY: This is a Notice of the Presidential declaration of a major disaster for Public Assistance Only for the State of Florida (FEMA-4680-DR), dated 12/13/2022.

Incident: Hurricane Nicole.

Incident Period: 11/07/2022 through 11/30/2022.

DATES: Issued on 12/13/2022.

Physical Loan Application Deadline Date: 02/13/2023.

Economic Injury (EIDL) Loan Application Deadline Date: 09/13/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 12/13/2022, Private Non-Profit organizations that provide essential services of a governmental nature may file disaster loan applications at the address listed above or other locally announced locations.

The following areas have been determined to be adversely affected by the disaster:

Primary Counties: Brevard, Duval, Flagler, Indian River, Martin, Nassau, Palm Beach, Saint Johns, Saint Lucie, Volusia.

The Interest Rates are:

| Percent
For Physical Damage:
Non-Profit Organizations with Credit Available Elsewhere | 2.375
Non-Profit Organizations without Credit Available Elsewhere | 2.375
For Economic Injury:
Non-Profit Organizations without Credit Available Elsewhere | 2.375

The number assigned to this disaster for physical damage is 17731 8 and for economic injury is 17732 0.

(Catalog of Federal Domestic Assistance Number 59008)

Rafaela Monchek,
Acting Associate Administrator for Disaster Assistance.

[FR Doc. 2022-27476 Filed 12-16-22; 8:45 am]

BILLING CODE 8026-09-P